POSTAL REGULATORY COMMISSION

Briefing on Periodicals Rates

AGENCY: Postal Regulatory Commission.

ACTION: Notice of briefing.

SUMMARY: Representatives and associates of the Free Press organization will participate in a briefing with Commissioners and staff on Tuesday, October 30, 2007, beginning at 2:30 p.m., at the Postal Regulatory Commission. The briefing will address issues related to Periodicals rates.

DATES: October 30, 2007.

ADDRESSES: Postal Regulatory Commission, 901 New York Avenue, NW., Suite 200, Washington, DC 20268-0001.

FOR FURTHER INFORMATION CONTACT: Nanci Langley, Director of Public Affairs and Government Relations, Postal Regulatory Commission, 202-789-6887.

Steven W. Williams,
Secretary.

[FR Doc. 07-5445 Filed 11-1-07; 8:45 am]

BILLING CODE 7710-FW-M